DEPARTMENT OF HOMELAND SECURITY

Federal Emergency Management Agency

44 CFR Part 67

[Docket No. FEMA-B-7463]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., CFM, Acting Section Chief, Engineering Management Section, Mitigation Division, 500 C Street, SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a). These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this proposed rule is exempt from the requirements of the Regulatory Flexibility Act because proposed or modified BFEs are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be ameded as follows:

Flooding source(s) | Location of referenced elevation | + Elevation in feet (NGVD) * Elevation in feet (NAVD) #Depth in feet above ground: Effective | + Elevation in feet (NGVD) * Elevation in feet (NAVD) #Depth in feet above ground: Modified | Communities affected
Athens-Clark County, Georgia
Brooklyn Creek Tributary A | At the confluence with Brooklyn Creek | *698 | *697 | Athens-Clark County.
| Approximately 40 feet upstream of the confluence with Brooklyn Creek | *698 | *697
McNutt Creek | At the confluence with Middle Oconee River | *557 | *558 | Athens-Clark County.
| Approximately 1,230 feet downstream of U.S. Highway 441/U.S. Highway 129/State Highway 15 and Macon Highway | *558 | *559
Trail Creek | At the confluence with North Oconee River | *613 | *615 | Athens-Clark County.
| Approximately 550 feet downstream of Broad Street | *614 | *615
Tributary A-1 | At the confluence with Tributary A | *658 | *659 | Athens-Clark County.
| Approximately 100 feet upstream of the confluence with Tributary A | *658 | *659
Tributary A-2 | At the confluence with Tributary A | *692 | *695 | Athens-Clark County.
| Approximately 260 feet upstream of the confluence with Tributary A | *697 | *698
Tributary H | At the confluence with Big Creek | *610 | *607 | Athens-Clark County.
| Approximately 870 feet upstream of the confluence with Big Creek | *610 | *609
* North American Vertical Datum of 1988.
¹ The existing elevation data included on the effective FIRM is printed in the elevation datum of the National Geodetic Vertical Datum of 1929 (NGVD29). In order to convert this printed elevation data from the NGVD29 datum to the NAVD88 datum, please subtract 0.194 feet.
ADDRESSES
Maps are available for inspection at the Athens-Clark County Public Works Department,120 West Dougherty Street, Athens, Georgia.
Send comments to The Honorable Heidi Davison, Mayor, City of Athens-Clark County, 301 College Avenue, Athens, Georgia 30601.
Bibb County, Georgia (Unincorporated Areas)
Walnut Creek | Approximately 400 feet upstream of Interstate Highway 16 | *298 | *299 | Bibb County (Unincorporated Areas).
| Just downstream of the Norfolk Southern Railway | *299 | *300
+North American Vertical Datum of 1988.
¹ The existing elevation data included on the effective FIRM is printed in the elevation datum of the National Geodetic Vertical Datum of 1929 (NGVD29). In order to convert this printed elevation data from the NGVD29 datum to the NAVD88 datum, please subtract 0.4 feet.
ADDRESSES
Maps are available for inspection at the Bibb County Engineering Office, 780 Third Street, Macon, Georgia.
Send comments to The Honorable Charles Bishop, Chairman, Bibb County Board of Commissioners, 601 Mulberry Street, Macon, Georgia 31201.

Flooding source(s) | Location of referenced elevation | * Elevation in feet (NGVD) + Elevation in feet (NAVD) # Depth in feet above ground: Effective | * Elevation in feet (NGVD) + Elevation in feet (NAVD) # Depth in feet above ground: Modified | Communities affected
Warren County, Kentucky and Incorporated Areas
Sinkhole No. 2 | At Media Drive | *464 | +464 | City of Bowling Green.
Sinkhole No. 3 | At Holly and Catherine Drives | *465 | +465 | City of Bowling Green.
Sinkhole No. 4A | At Holly and Catherine Drives | *462 | +461 | City of Bowling Green.
Sinkhole No. 4B | At Holly and Catherine Drives | *443 | +440 | City of Bowling Green.
Sinkhole No. 7 | At Boxwood Drive | *545 | +541 | City of Bowling Green and Warren County (Unincorporated Areas).
Sinkhole No. 7A | At Boxwood Drive | *545 | +541 | Warren County (Unincorporated Areas).
Sinkhole No. 14 | At Wellington Way | *479 | +482 | City of Bowling Green.
Sinkhole No. 21 | At Canton Avenue | *524 | +523 | City of Bowling Green.
Sinkhole No. 22 | At Andrea Street | *532 | +529 | City of Bowling Green.
Sinkhole No. 25A | At Pascoe Boulevard | *535 | +531 | City of Bowling Green.
Sinkhole No. 33 | At Rich Pond | *580 | +568 | Warren County (Unincorporated Areas).
Sinkhole No. 39A | At Bogle Lane | None | +488 | City of Bowling Green.
Sinkhole No. 39B | At Bogle Lane | None | +485 | City of Bowling Green.
# Depth in feet above ground.
*National Geodetic Vertical Datum.
+National American Vertical Datum.
ADDRESSES
Maps are available for inspection at City-County Planning Commission of Warren County,1141 State Street, Bowling Green, Kentucky.
Send comments to Mr. Eric W. Larson, PE, CFM, Floodplain Manager, City-County Planning Commission of Warren County, 1141 State Street, Bowling Green, Kentucky 42101.
Pickens County, South Carolina and Incorporated Areas
Adams Creek | At the confluence of Oolenoy River | None | +940 | Pickens County (Unincorporated Areas).
| Just upstream of Anderson Circle | None | +971
Betsy Akin Branch | At the confluence with Lake Keowee | None | +800 | Pickens County (Unincorporated Areas).
| Approximately 1,000 feet upstream of the confluence with Lake Keowee | None | +808
Brushy Creek | Approximately 2,665 feet downstream of Sheriff Mill Road | None | +859 | Pickens County (Unincorporated Areas), City of Easley.
| Approximately 550 feet upstream of Anzio Street | None | +982
Burdine Creek | At the confluence with Georges Creek | None | +863 | Pickens County (Unincorporated Areas).
| Approximately 2,790 feet downstream of Dacusville Hwy | None | +1,006
Burdine Creek Tributary | At the confluence with Burdine Creek | None | +1,006 | Pickens County (Unincorporated Areas).
| Approximately 80 feet downstream of Holly Bush Road | None | +1,010
Burgess Creek | At the confluence with Weaver Creek | None | +944 | Pickens County (Unincorporated Areas).
| Approximately 1,810 feet downstream of Cricket Drive | None | +959
Camp Creek | At the confluence of Twelvemile Creek | None | +725 | Pickens County (Unincorporated Areas), Town of Sixmile.
| Approximately 900 feet southeast of the intersection of Elizabeth Lane and South Main Street | None | +997
Cannon Creek | At the confluence with Twelvemile Creek | None | +882 | Pickens County (Unincorporated Areas).
| Approximately 200 feet upstream of the confluence of Gregory Creek | None | +891
Carmel Creek | Approximately 250 feet downstream of Joyce Road | None | +825 | Pickens County (Unincorporated Areas).
| Approximately 3,620 feet upstream of Wyatt Stewart Road | None | +957
Carpenter Creek | At the confluence with South Saluda River | None | +889 | Pickens County (Unincorporated Areas).
| Approximately 1,700 feet downstream of Dalton Road | None | +1,001
Carrick Creek | At the confluence of Oolenoy River | None | +956 | Pickens County (Unincorporated Areas).
| Approximately 210 feet upstream of Table Rock Road | None | +959
Crow Creek | At the confluence of Lake Keowee | None | +800 | Pickens County (Unincorporated Areas).
| Approximately 2,510 feet upstream of Little Eastatoee Road | None | +871
Doddies Creek | At the confluence with Machine Creek | None | +863 | Pickens County (Unincorporated Areas).
| Approximately 290 feet upstream of Dacusville Hwy | None | +1,059
Eastatoe Creek | At the confluence with Lake Keowee | None | +800 | Pickens County (Unincorporated Areas).
| Approximately 340 feet upstream of Lesesne Road | None | +1,004
Eighteenmile Creek | Approximately 1,550 feet downstream of the confluence with Eighteenmile Creek Tributary 5 | None | +714 | Pickens County (Unincorporated Areas), City of Clemson, City of Easley.
| Approximately 2,020 feet upstream of Ross Avenue | None | +989
Eighteenmile Creek Tributary A | Approximately 70 feet upstream of Shaftsbury Road | None | +795 | City of Clemson.
| Approximately 520 feet upstream of Shaftsbury Road | None | +808
Eighteenmile Creek Tributary 1 | Approximately 50 feet upstream of Prince Ranier Road | None | +798 | City of Clemson.
| Approximately 755 feet upstream of Prince Rainer Road | None | +812
Eighteenmile Creek Tributary 2 | Approximately 70 feet upstream of Clarendon Drive | None | +745 | City of Clemson.
| Approximately 1,640 feet upstream of the confluence with Eighteenmile Creek Tributary 6 | None | +782
Eighteenmile Creek Tributary 3 | At the confluence with Eighteenmile Creek Tributary 9 | None | +752 | Pickens County (Unincorporated Areas).
| Approximately 1,710 feet upstream of the confluence with Eighteenmile Creek Tributary 9 | None | +776
Eighteenmile Creek Tributary 4 | At the confluence with Eighteenmile Creek | None | +730 | Pickens County (Unincorporated Areas).
| Approximately 1,000 feet upstream of Calhoun Memorial Hwy | None | +745
Eighteenmile Creek Tributary 5 | At the confluence with Eighteenmile Creek | None | +716 | Pickens County (Unincorporated Areas), City of Clemson.
| Approximately 1,890 feet southwest of the intersection of Moser Trail and Old Shirley Road | None | +787
Eighteenmile Creek Tributary 6 | At the confluence with Eighteenmile Creek Tributary 2 | None | +757 | Pickens County (Unincorporated Areas), City of Clemson.
| Approximately 280 feet upstream of Azalea Drive | None | +775
Eighteenmile Creek Tributary 7 | At the confluence with Eighteenmile Creek | None | +719 | Pickens County (Unincorporated Areas).
| Approximately 7,585 feet upstream of the confluence with Eighteenmile Creek Tributary 19 | None | +800
Eighteenmile Creek Tributary 8 | At the confluence with Eighteenmile Creek Tributary 2 | None | +751 | City of Clemson.
| Approximately 1,595 feet upstream of the confluence with Eighteenmile Creek Tributary 2 | None | +769
Eighteenmile Creek Tributary 9 | At the confluence with Eighteenmile Creek | None | +737 | Pickens County (Unincorporated Areas), City of Clemson, Town of Central.
| Approximately 1,510 feet upstream of Fernway Drive | None | +854
Eighteenmile Creek Tributary 10 | At the confluence with Eighteenmile Creek Tributary 2 | None | +751 | City of Clemson.
| Approximately 1,040 feet upstream of the confluence with Eighteenmile Creek Tributary 2 | None | +764
Eighteenmile Creek Tributary 11 | At the confluence with Eighteenmile Creek | None | +747 | Pickens County (Unincorporated Areas).
| Approximately 5,990 feet upstream of Mill Pine Road | None | +818
Eighteenmile Creek Tributary 12 | At the confluence with Eighteenmile Creek | None | +809 | Pickens County (Unincorporated Areas), Town of Liberty.
| Approximately 920 feet upstream of the Railroad crossing | None | +961
Eighteenmile Creek Tributary 13 | At the confluence with Eighteenmile Creek | None | +842 | Pickens County (Unincorporated Areas).
| Approximately 3,970 feet upstream of Calhoun Memorial Hwy | None | +865
Eighteenmile Creek Tributary 14 | At the confluence with Eighteenmile Creek | None | +874 | Pickens County (Unincorporated Areas).
| Approximately 3,490 feet upstream of Smith Grove Road | None | +904
Eighteenmile Creek Tributary 15 | At the confluence with Eighteenmile Creek | None | +885 | Pickens County (Unincorporated Areas).
| Approximately 1,230 feet upstream of Smith Grove Road | None | +914
Eighteenmile Creek Tributary 16 | At the confluence with Eighteenmile Creek (Near Easley) | None | +960 | Pickens County (Unincorporated Areas), City of Easley.
| Approximately 880 feet upstream of the confluence with Eighteenmile Creek | None | +998
Eighteenmile Creek Tributary 17 | At the confluence with Eighteenmile Creek (Near Easley) | None | +959 | Pickens County (Unincorporated Areas), City of Easley.
| Approximately 130 feet upstream of Cherokee Road | None | +1,017
Eighteenmile Creek Tributary 18 | At the confluence with Eighteenmile Creek | None | +735 | Pickens County (Unincorporated Areas).
| Approximately 1,210 feet upstream of the confluence with Eighteenmile Creek | None | +752
Eighteenmile Creek Tributary 19 | At the confluence with Eighteenmile Creek | None | +720 | Pickens County (Unincorporated Areas).
| Approximately 1,940 feet upstream of the confluence with Eighteenmile Creek Tributary 7 | None | +727
Fifteenmile Creek | At the confluence of Eighteenmile Creek | None | +747 | Pickens County (Unincorporated Areas).
| Approximately 2,060 feet upstream of Pine Thicket Road | None | +829
Fifteenmile Creek Tributary 1 | At the confluence with Fifteenmile Creek | None | +781 | Pickens County (Unincorporated Areas).
| Approximately 180 feet upstream of Garvin Road | None | +802
Fifteenmile Creek Tributary 2 | At the confluence with Fifteenmile Creek | None | +788 | Pickens County (Unincorporated Areas).
| Approximately 240 feet upstream of Pine Ticket Road | None | +804 |
Fifteenmile Creek Tributary 3 | At the confluence of Fifteenmile Creek | None | +755 | Pickens County (Unincorporated Areas).
| Approximately 1,420 feet upstream of the confluence with Fifteenmile Creek | None | +773 |
Georges Creek | At the confluence with South Saluda River | None | +796 | Pickens County (Unincorporated Areas), City of Easley.
| Approximately 1,025 feet upstream of Hamilton Street | None | +1,006 |
Georges Creek Tributary 1 | At the confluence with Georges Creek | None | +819 | Pickens County (Unincorporated Areas), City of Easley.
| Approximately 2,140 feet upstream of Cardinal Drive | None | +868 |
Golden Creek | At the confluence with Twelvemile Creek | None | +801 | Pickens County (Unincorporated Areas), Town of Liberty, Town of Norris.
| Approximately 1,380 feet downstream of Enon Church Road | None | +917 |
Golden Creek Tributary 1 | At the confluence with Golden Creek | None | +847 | Pickens County (Unincorporated Areas), Town of Liberty.
| Approximately 2,140 feet upstream of the confluence with Golden Creek | None | +910 |
Gowens Creek | At the confluence of Oolenoy River | None | +923 | Pickens County (Unincorporated Areas).
| Approximatley 200 feet Downstream of Table Rock Road | None | +935 |
Gregory Creek | At the confluence with Cannon Creek | None | +891 | Pickens County (Unincorporated Areas).
| Approximately 1,410 feet upstream of the confluence with Gregory Creek | None | +944 |
Hagood Branch | At the confluence of Twelvemile Creek | None | +931 | Pickens County (Unincorporated Areas).
| Approximately 3,090 feet upstream of Hagood Mill Road | None | +984 |
Hamilton Creek | At the confluence with Georges Creek | None | +828 | Pickens County (Unincorporated Areas), City of Easley.
| Approximately 885 feet upstream of Pace Valley Road | None | +937
Keowee River | Approximately 3.4 miles downstream of Deowee Dam | None | +665 | Pickens County (Unincorporated Areas).
| Just downstream of Keowee Dam | None | +675
Lake Hartwell |  | None | +665 | Pickens County (Unincorporated Areas), City of Clemson.
Lake Hartwell Tributary 2 | At the confluence with Lake Hartwell | None | +665 | Pickens County (Unincorporated Areas).
| Approximately 1,940 feet upstream of West Queen Street | None | +671
Lake Keowee |  | None | +800 | Pickens County (Unincorporated Areas).
Little Crow Creek | At the confluence with Lake Keowee | None | +800 | Pickens County (Unincorporated Areas).
| Approximately 990 feet upstream of Little Crow Creek Road | None | +832
Little Crow Creek Tributary | At the confluence with Little Crow Creek | None | +822 | Pickens County (Unincorporated Areas).
| Approximately 1,620 feet upstream of Mile Creek Road | None | +896
Little Eastatoe Creek | At the confluence with Eastatoe Creek | None | +805 | Pickens County (Unincorporated Areas).
| Approximately 1,020 feet upstream of the confluence with Little Eastatoe Creek Tributary | None | +1,015
Little Eastatoe Creek Tributary | At the confluence with Little Eastatoe Creek | None | +1,013 | Pickens County (Unincorporated Areas).
| Approximately 550 feet upstream of Sunset Community Way | None | +1,038
Little Eastatoe Creek Tributary 2 | At the confluence with Little Eastatoe Creek Tributary | None | +1,019 | Pickens County (Unincorporated Areas).
| Approximately 540 feet upstream of Sequoyah Way | None | +1,039
Little Georges Creek | At the confluence with Georges Creek | None | +819 | Pickens County (Unincorporated Areas).
| Approximately 370 feet upstream of Looper Road | None | +959
Machine Creek | At the confluence with South Saluda River | None | +863 | Pickens County (Unincorporated Areas).
| Approximately 340 feet upstream of Childress Road | None | +1,053
Mad Dog Branch | At the confluence with Georges Creek | None | +937 | Pickens County (Unincorporated Areas), City of Easley.
| Approximately 310 feet upstream of Turpin Drive | None | +1,018
Middle Branch | Approximately 930 feet downstream of Meadow Ridge Road | None | +872 | Pickens County (Unincorporated Areas), City of Easley.
| Approximately 170 feet upstream of Calhoun Memorial Highway | None | +988
Middle Branch Tributary 6A | Approximately 210 feet downstream of Mossie Smith Road | None | +889 | Pickens County (Unincorporated Areas), City of Easley.
| Approximately 575 feet downstream of Rose Ann Court | None | +904
Middle Branch Tributary 6B | At the confluence with Middle Branch Tributary 6A | None | +892 | Pickens County (Unincorporated Areas), City of Easley.
| Approximately 345 feet upstream of Canvasback Way | None | +904
Middle Fork Twelvemile Creek | At the confluence with Twelvemile Creek | None | +911 | Pickens County (Unincorporated Areas).
| Approximately 140 feet downstream of Phoenix Road | None | +1,046
Middle Fork Twelvemile Creek Tributary 1 | At the confluence with Middle Fork Twelvemile Creek | None | +932 | Pickens County (Unincorporated Areas).
| Approximately 660 feet upstream of Meece Mill Road | None | +957
Middle Fork Twelvemile Creek Tributary 2 | At the confluence with Middle Fork Twelvemile Creek | None | +932 | Pickens County (Unincorporated Areas).
| Approximately 340 feet upstream of Meece Mill Road | None | +935
Mill Creek | At the confluence with Oolenoy River | None | +968 | Pickens County (Unincorporated Areas).
| Approximately 500 feet downstream of Table Rock Road | None | +979
Mill Shoals Creek | At the confluence with Middle Fork Twelvemile Creek | None | +950 | Pickens County (Unincorporated Areas).
| Approximately 3,010 feet upstream of the confluence with Middle Fork Twelvemile Creek | None | +957
Molly Branch | At the confluence with Adams Creek | None | +950 | Pickens County (Unincorporated Areas).
| Approximately 4,510 feet upstream of the confluence with Adams Creek | None | +982
Oolenoy River | At the confluence with South Saluda River | None | +927 | Pickens County (Unincorporated Areas).
| Approximately 200 feet upstream of Lake Road | None | +948
Oolenoy River Tributary 2 | At the confluence with Oolenoy River | None | +946 | Pickens County (Unincorporated Areas).
| Approximately 490 feet upstream of Table Rock Road | None | +995
Oolenoy River Tributary 3 | At the confluence with Oolenoy River | None | +968 | Pickens County (Unincorporated Areas).
| Approximately 350 feet upstream of Table Rock Road | None | +976
Oolenoy River Tributary 5 | At the confluence with Oolenoy River | None | +997 | Pickens County (Unincorporated Areas).
| Approximately 1,400 feet upstream of Table Rock Road | None | +1,046
Peters Creek | At the confluence with South Saluda River | None | +893 | Pickens County (Unincorporated Areas).
| Approximately 1,930 upstream of Freeman Bridge Road | None | +902
Praters Creek | At the confluence with Twelvemile Creek | None | +857 | Pickens County (Unincorporated Areas).
| Approximately 1,670 feet downstream of Morningside Road | None | +886
Ravens Branch | At the confluence of Wolf River | None | +1,004 | Pickens County (Unincorporated Areas).
| Approximately 570 feet downstream of Boundary Drive | None | +1,023
Reedy Cove Creek | At the confluence with Eastatoe Creek | None | +962 | Pickens County (Unincorporated Areas).
| Approximately 350 feet upstream of Holcombe Hollow | None | +986
Rices Creek | At the confluence with Twelvemile Creek | None | +841 | Pickens County (Unincorporated Areas).
| Approximately 130 feet upstream of Robert P. Jeannes Road | None | +1,018
Rices Creek Tributary | At the confluence with Rices Creek | None | +945 | Pickens County (Unincorporated Areas).
| Approximately 1,170 feet upstream of Griffin Mill Road | None | +951
Shoal Creek | At the confluence with Twelvemile Creek | None | +792 | Pickens County (Unincorporated Areas), Town of Sixmile.
| Approximately 2,660 feet upstream of Spur Road | None | +1,099
Shoal Creek Tributary 1 | At the confluence with Shoal Creek | None | +896 | Pickens County (Unincorporated Areas), Town of Sixmile.
| Approximately 330 feet upstream of Liberty Hwy | None | +966
Shoal Creek (South Saluda River Tributary) | At the confluence with South Saluda river | None | +866 | Pickens County (Unincorporated Areas).
| Approximately 3,840 feet upstream of Dacusville Hwy | None | +990
Shoal Creek Tributary 1 (South Saluda River Tributary) | At the confluence with Shoal Creek (South Saluda River Tributary) | None | +866 | Pickens County (Unincorporated Areas).
| Just upstream of Hunts Bridge Road | None | +942
Shoal Creek Tributary 2 (South Saluda River Tributary) | At the confluence with Shoal Creek (South Saluda River Tributary) | None | +872 | Pickens County (Unincorporated Areas).
| Approximately 2,170 feet upstream of Raines Road | None | +904
Sixmile Creek | At the confluence with Lake Hartwell | None | +665 | Pickens County (Unincorporated Areas), Town of Sixmile.
| Approximately 700 feet upstream of Cedar Hill Road | None
South Saluda River | At the confluence of Georges Creek | None | +804 | Pickens County (Unincorporated Areas).
| Approximately 1,000 feet upstream of South Saluda Road | None | +1,127
South Saluda River Tributary 1 | At the confluence of South Saluda River | None | +862 | Pickens County (Unincorporated Areas).
| Approximately 2,520 feet upstream of Edinburgh Lane | None | +884
South Saluda River Tributary 1 | At the confluence of South Saluda River | None | +927 | Pickens County (Unincorporated Areas).
| Approximately 200 feet upstream of Lake Circle | None | +948
Three and Twenty Creek | Approximately 4,270 feet downstream of the confluence of Three and Twenty Creek Tributary 1 | None | +820 | Pickens County (Unincorporated Areas).
| Approximately 900 feet downstream of Johnson Road | None | +868
Three and Twenty Creek Tributary 1 | At the confluence of Three and Twenty Creek | None | +827 | Pickens County (Unincorporated Areas).
| Approximately 3,200 feet upstream of Zion School Road | None | +860
Three and Twenty Creek Tributary 2 | At the confluence of Three and Twenty Creek | None | +828 | Pickens County (Unincorporated Areas).
| Approximately 1,355 feet upstream of Johnson Road | None | +879
Town Creek | Just upstream of Pumpkintown Hwy | None | +988 | Pickens County (Unincorporated Areas).
| Approximately 1,380 feet upstream of Ivey Hanes Road | None | +1,124
Town Creek Tributary 1 | At the confluence of Town Creek | None | +1,007 | Pickens County (Unincorporated Areas).
| Approximately 1,190 feet east of the intersection of Capewood Lane and Glassy Mountain Road | None | +1,099
Town Creek Tributary 2 | At the confluence of Town Creek | None | +1,022 | Pickens County (Unincorporated Areas).
| Approximately 1,960 feet upstream of Griffin Church Road | None | +1,099
Town Creek Tributary 3 | At the confluence of Town Creek | None | +1,055 | Pickens County (Unincorporated Areas).
| Approximately 1,680 feet upstream of Fox Squirrel Ridge Road | None | +1,060
Town Creek Tributary 4 | At the confluence of Town Creek | None | +1,029 | Pickens County (Unincorporated Areas).
| Approximately 720 feet downstream of Spring Creek Drive | None | +1,065
Twelvemile Creek | At the confluence with Lake Hartwell | None | +665 | Pickens County (Unincorporated Areas), City of Clemson.
| At Belle Shoals Road | None | +869
Twelvemile Creek | Approximately 80 feet upstream of Log House Road | None | +1,019 | Pickens County (Unincorporated Areas).
| Approximately 500 feet upstream of Hidden Valley Road | None | +1,061
Twelvemile Creek Tributary | At the confluence with Lake Hartwell | None | +665 | Pickens County (Unincorporated Areas), City of Clemson.
| At Old Central Road | None | +665
Twelvemile Creek Tributary 4 | At the confluence with Lake Hartwell | None | +665 | Pickens County (Unincorporated Areas).
| Approximately 4,970 feet upstream of the confluence with Lake Hartwell | None | +675
Twelvemile Creek Tributary 6 | At the confluence with Lake Hartwell | None | +665 | Pickens County (Unincorporated Areas).
| Approximately 210 feet upstream of R.C. Edward School Road | None | +673
Twelvemile Creek Tributary 7 | At the confluence with Lake Hartwell | None | +665 | Pickens County (Unincorporated Areas).
| Approximately 930 feet upstream of the confluence with Lake Hartwell | None | +668
Twelvemile Creek Tributary 9 | At the confluence with Lake Hartwell | None | +665 | Pickens County (Unincorporated Areas).
| Approximately 320 feet southeast of the intersection of Old Cedar Lane and South Main Street | None | +994
Twelvemile Creek Tributary 10 | At the confluence with Lake Hartwell | None | +665 | Pickens County (Unincorporated Areas).
| Approximately 1,190 feet upstream of the confluence with Lake Hartwell | None | +669
Twelvemile Creek Tributary 11 | At the confluence with Twelvemile Creek | None | +678 | Pickens County (Unincorporated Areas).
| Approximately 690 feet southeast of the intersection of Garvin Street and Maw Bridge Road | None | +960
Twelvemile Creek Tributary 13 | At the confluence with Twelvemile Creek | None | +908 | Pickens County (Unincorporated Areas).
| Approximately 590 feet upstream of Tiger Drive | None | +926
Twelvemile Creek Tributary 14 | At the confluence with Twelvemile Creek | None | +978 | Pickens County (Unincorporated Areas).
| Approximately 280 feet upstream of Tommys Trail | None | +1,023
Twelvemile Creek Tributary 15 | At the confluence with Twelvemile Creek | None | +982 | Pickens County (Unincorporated Areas).
| Approximately 3,030 feet upstream of the confluence of Twelvemile Creek | None | +999
Weaver Creek | At the confluence with Twelvemile Creek | None | +937 | Pickens County (Unincorporated Areas).
| Approximately 2,570 feet upstream of the confluence with Burgress Creek | None | +950
West Fork Gregory Creek | At the confluence with Twelvemile Creek | None | +938 | Pickens County (Unincorporated Areas).
| Approximately 660 feet upstream of Windmont Road | None | +956
Wolf Creek | At the confluence with Twelvemile Creek | None | +876 | Pickens County (Unincorporated Areas), City of Pickens.
| Just upstream of Mauldin Lake Road | None | +916
Wolf Creek | Just downstream of Hideaway Hills Lane | None | +996 | Pickens County (Unincorporated Areas).
| Approximately 260 feet downstream of Pretty Place Drive | None | +1,046
Wolf Creek Tributary | At the confluence of Wolf Creek | None | +951 | Pickens County (Unincorporated Areas).
| Approximately 2,500 feet upstream of the confluence with Wolf Creek | None | +972
Woodside Branch | At the confluence with Eighteenmile Creek | None | +826 | Pickens County (Unincorporated Areas), Town of Liberty.
| Approximately 960 feet upstream of the confluence with Woodside Branch Tributary | None | +866
Woodside Branch Tributary | At the confluence with Woodside Branch | None | +854 | Pickens County (Unincorporated Areas), Town of Liberty.
| Approximately 2,180 feet upstream of Burn Hill Road | None | +882
Youngs Branch | At the confluence with Middle Fork Twelvemile Creek | None | +1,005 | Pickens County (Unincorporated Areas), Town of Liberty.
| Approximately 840 feet downstream of confluence of Blacks Branch | None | +1,059
# Depth in feet above ground.
*National Geodetic Vertical Datum.
+National American Vertical Datum.
ADDRESSES
Unincorporated Areas of Pickens County
Maps are available for inspection at 222 McDaniels Avenue B-, Pickens, SC 29670-1419.
Send comments to Alan M. Ours, County Administrator, Pickens County, 222 McDaniels Avenue B-2, Pickens, SC 29670-1419.
Town of Central
Maps are available for inspection at 1067 West Main Street, Central, SC 29630-0549.
Send comments to the Honorable H.R. Holladay, Mayor, Town of Central, P.O. Box 549, Cenral, SC 29630-0549.
City of Clemson
Maps are available for inspection at 1200-3 Tiger Boulevard, Clemson, SC 29633-1566.
Send comments to Rick Cotton, City Aministrator, City of Clemson, P.O. Box 1566, Clemson, SC 29633-1566.
City of Easley
Maps are available for inspection at 205 N 1st Street, Easley, SC 29641-0466.
Send comments to the Honorable M.E. Christopherson, Mayor, City of Easley, P.O. Box 466, Easley, SC 29641-0466.
Town of Liberty
Maps are available for inspection at 206 West Front Street, Liberty, SC 29657-0716.
Send comments to the Honorable Eddie Hughes, Mayor, City of Liberty, P.O. Box 716, Liberty, SC 29657-0716.
Town of Norris
Maps are available for inspection at 100 East Jamison Street, Norris, SC 29667-0320.
Send comments to the Honorable Odell Williams, Mayor, Town of Norris, P.O. Box N, Norris, SC 29667-0320.
City of Pikens
Maps are available for inspection at 209 Pendleton Street, Pickens, SC 29671-0127.
Send comments to the Honorable David Owens, Mayor, City of Pickens, P.O. Box 217, Pickens, SC 29671-0127.
Town of Sixmile
Maps are available for inspection at 106 South Main Street, Six Mile, SC 29682-0429.
Send comments to the Honorable Randy Cheek, Mayor, Town of Six Mile, P.O. Box 429 Six Mile, SC 29682-0429.
York County, South Carolina and Incorporated Areas
Abernathy Creek | Approximately 4,550 feet downstream of Rowells Road | None | +484 | York County (Unincorporated Areas).
| Approximately 300 feet downstream of Rowells Road | None | +509 |
Allison Creek | At the confluence with Big Allison Creek | None | +667 | York County (Unincorporated Areas), Town of Clover.
| Approximately 3,800 feet upstream of Faulkner Road | None | +703 |
Allison Creek Tributary | At the confluence with Allison Creek | None | +679 | York County (Unincorporated Areas).
| Just downstream of Faulkner Road | None | +686 |
Allison Creek Tributary 1 | At the confluence with Allison Creek | None | +676 | York County (Unincorporated Areas).
| Approximately 275 feet upstream of Thomas Road | None | +731 |
Allison Creek Tributary 2 | At the confluence with Allison Creek Tributary 1 | None | +698 | York County (Unincorporated Areas).
| Approximately 310 feet downstream of Thomas Road | None | +721 |
Beaverdam Creek | At the confluence with Crowders Creek | None | +579 | York County (Unincorporated Areas).
| Approximately 1,090 feet downstream of Barrett Road | None | +736 |
Beaverdam Creek West | At the confluence with Broad River | None | +438 | York County (Unincorporated Areas).
| Approximately 1,270 feet upstream of the Dagnall Road | None | +582 |
Beaverdam Creek Tributary 1 | At the confluence with Beaverdam Creek | None | +593 | York County (Unincorporated Areas).
| Approximately 6,010 feet upstream of Chimney Ford Road | None | +666 |
Beaverdam Creek Tributary 2 | At the confluence with Beaverdam Creek | None | +635 | York County (Unincorporated Areas).
| Approximately 320 feet downstream of Bate Harvey Road | None | +685 |
Beaverdam Creek Tributary 3 | At the confluence with Beaverdam Creek | None | +649 | Town of Clover.
| Approximately 7,540 feet upstream of Old Carriage Road | None | +728 |
Beaverdam Creek Tributary 4 | At the confluence with Beaverdam Creek | None | +711 | York County (Unincorporated Areas), Town of Clover.
| Approximately 640 feet upstream of Carbon Metallic Hwy | None | +789
Big Branch | At the confluence with Big Allison Branch | None | +575 | York County (Unincorporated Areas).
| Approximately 1,155 feet southwest of the intersection of Old Cedar Circle and Big Branch Court | None | +612
Big Allison Creek | At the confluence with Lake Wylie | None | +570 | York County (Unincorporated Areas).
| Approximately 5,570 feet upstream of the confluence with Big Allison Creek Tributary 4 | None | +771
Big Allison Creek Tributary 1 | At the confluence with Big Allison Branch | None | +634 | York County (Unincorporated Areas).
| Approximately 5,280 feet upstream of Paraham Road South | None | +634
Big Allison Creek Tributary 2 | At the confluence with Big Allison Creek | None | +633 | York County (Unincorporated Areas).
| Just upstream of Meadow Road | None | +641
Big Allison Creek Tributary 3 | At the confluence with Big Allison Creek | None | +673 | York County (Unincorporated Areas).
| Approximately 60 feet upstream of Brown Pelican Court | None | +713
Big Allison Creek Tributary 4 | At the confluence with Big Allison Creek | None | +735 | York County (Unincorporated Areas).
| Approximately 80 feet downstream of Wilmoth Road | None | +784
Big Dutchman Creek | At the confluence with Catawba River | None | +511 | York County (Unincorporated Areas) City of Rock Hill.
| Approximately 50 feet downstream of Mt. Gallant Road | None | +515
Blue Branch | At the confluence with Turkey Creek | None | +387 | York County (Unincorporated Areas).
| Approximately 550 feet downstream of McConnells Hwy West | None | +472 | York County (Unincorporated Areas).
Blue Branch Tributary 1 | At the confluence with Blue Branch | None | +392 | York County (Unincorporated Areas).
| Approximately 3,800 feet upstream above the confluence with Blue Branch | None | +442
Broad River | Approximately 7,030 feet downstream of the confluence of Robertson Branch | None | +433 | York County (Unincorporated Areas).
| At the confluence of Kings Creek | None | +456
Bryson Creek | At the confluence with Turkey Creek | None | +414 | York County (Unincorporated Areas).
| Approximately 430 feet downstream of Parson Road | None | +540
Buck Horn Creek | At the confluence with Susybole Creek | None | +490 | York County (Unincorporated Areas).
| Approximately 440 feet downstream of Templeton Road | None | +744
Buck Horn Creek Tributary 1 | At the confluence with Buck Horn Creek | None | +562 | York County (Unincorporated Areas).
| Approximately 780 feet upstream of Broadhurst Lane | None | +609
Buck Horn Creek Tributary 2 | At the confluence with Buck Horn Creek | None | +578 | York County (Unincorporated Areas).
| Approximately 1,550 feet upstream of Propst Road | None | +593
Buck Horn Creek Tributary 3 | At the confluence with Buck Horn Creek | None | +577 | York County (Unincorporated Areas).
| Approximately 1,960 feet upstream of Propst Road | None | +607
Buck Horn Creek Tributary 4 | At the confluence with Buck Horn Creek | None | +619 | York County (Unincorporated Areas).
| Approximately 2,720 feet upstream of Quarry Road | None | +719
Buck Horn Creek Tributary 5 | At the confluence with Buck Horn Creek | None | +638 | York County (Unincorporated Areas).
| Approximately 2,940 feet upstream of the confluence with Buck Horn Creek | None | +736
Buck Horn Creek Tributary 6 | At the confluence with Buck Horn Creek | None | +701 | York County (Unincorporated Areas).
| Approximately 450 feet southeast of the intersection of Hartness Road and Templeton Road | None | +746
Bullock Creek | At the confluence with Broad River | None | +436 | York County (Unincorporated Areas).
| Approximately 1,220 feet upstream of Crossland Road | None | +662
Bullock Creek Tributary 1 | At the confluence of Bullock Creek | None | +474 | York County (Unincorporated Areas).
| Approximately 3,370 feet upstream of the confluence with Bullock Creek | None | +487
Bullock Creek Tributary 2 | At the confluence of Bullock Creek | None | +491 | York County (Unincorporated Areas).
| Approximately 8,890 feet upstream of the confluence with bullock Creek | None | +547
Bullock Creek Tributary 3 | At the confluence of Bullock Creek | None | +506 | York County (Unincorporated Areas).
| Approximately 4,500 feet upstream of the confluence with Bullock Creek | None | +539
Bullock Creek Tributary 4 | At the confluence of Bullock Creek | None | +514 | York County (Unincorporated Areas).
| Approximately 2,520 feet upstream of the confluence with Bullock Creek | None | +541
Bullock Creek Tributary 5 | At the confluence of Bullock Creek | None | +522 | York County (Unincorporated Areas).
| Approximately 1,350 feet upstream of the confluence with Bullock Creek | None | +529
Bullock Creek Tributary 6 | At the confluence of Bullock Creek | None | +530 | York County (Unincorporated Areas).
| Approximately 2,110 feet upstream of the confluence with Bullock Creek | None | +550
Bullock Creek Tributary 7 | At the confluence of Bullock Creek | None | +620 | York County (Unincorporated Areas).
| Approximately 90 feet downstream of Beersheba Road North | None | +649
Burgis Creek | At the confluence of Catawba River | None | +492 | York County (Unincorporated Areas).
| Approximately 100 feet downstream of White Horse Road | None | +550
Calabash Branch | At the confluence with Big Allison Creek | None | +618 | York County (Unincorporated Areas), Town of Clover.
| Approximately 850 feet upstream of McConnell Street | None | +762
Camp Run | At the confluence with Beaverdam Creek | None | +594 | York County (Unincorporated Areas).
| Approximately 300 feet upstream of W.H. Stowe Road | None | +606
Carter Branch | At the confluence with Susybole Creek | None | +458 | York County (Unincorporated Areas).
| Approximately 1,640 feet upstream of Burgis Road South | None | +490
Catawba River | Approximately 4,370 feet downstream of the Railroad crossing | None | +467 | York County (Unincorporated Areas), Catawba Indian Nation.
| Just downstream of the Lake Wylie Dam | *524 | +517
Catawba River Tributary 1 | At the confluence with Catawba River | None | +467 | York County (Unincorporated Areas), City of Rock Hill.
| At the Chester/York County Boundary | None | +502
Catawba River Tributary 2 | At the confluence with Catawba River | None | +480 | York County (Unincorporated Areas).
| Approximately 3,370 feet upstream of the confluence with Catawba River | None | +503
Catawba River Tributary 3 | At the confluence with Mooneys Hill Branch | None | +521 | York County (Unincorporated Areas).
| Approximately 1,605 feet upstream of the confluence with Mooneys Hill Branch | None | +539
Catawba River Tributary 4 | At the confluence with Mooneys Hill Branch | None | +535 | York County (Unincorporated Areas).
| Approximately 1,980 feet upstream of the confluence with Mooneys Hill Branch | None | +545
Catawba River Tributary 6 | At the confluence with Lake Wylie | None | +570 | York County (Unincorporated Areas).
| Approximately 1,980 feet upstream of the confluence with Lake Wylie | None | +573
Catawba River Tributary 9 | At the confluence with Catawba River Tributary 3 | None | +529 | York County (Unincorporated Areas).
| Approximately 585 feet upstream of the confluence with Catawba Riber Tributary 10 | None | +548
Catawba River Tributary 10 | At the confluence with Catawba River Tributary 9 | None | +537 | York County (Unincorporated Areas).
| Approximately 625 feet upstream of the confluence with Catawba River Tributary 9 | None | +547
Catawba River Tributary 11 | At the confluence with Catawba River | None | +480 | York County (Unincorporated Areas).
| Approximately 4,530 feet upstream of the confluence with Catawba River | None | +507
Clark Creek | At the confluence with Bullock Creek | None | +467 | York County (Unincorporated Areas).
| Approximately 2,310 feet upstream of Park Road | None | +704
Clark Creek Tributary 1 | At the confluence with Clark Creek | None | +477 | York County (Unincorporated Areas).
| Approximately 870 feet downstream of Walnut Street Extension | None | +496
Clark CreekTributary 2 | At the confluence with Clark Creek | None | +489 | York County (Unincorporated Areas).
| Approximately 1,650 feet upstream of the confluence with Clark Creek | None | +507
Clark Creek Tributary 3 | At the confluence with Clark Creek | None | +503 | York County (Unincorporated Areas).
| Approximately 2,210 feet upstream of the confluence with Clark Creek | None | +519
Clark Creek Tributary 4 | At the confluence with Clark Creek | None | +520 | York County (Unincorporated Areas).
| Approximately 1,710 feet upstream of the confluence with Clark Creek | None | +536
Clark Creek Tributary 5 | At the confluence with Clark Creek | None | +527 | York County (Unincorporated Areas).
| Approximately 2,000 feet upstream of the confluence with Clark Creek | None | +545
Clark Creek Tributary 6 | At the confluence with Clark Creek | None | +539 | York County (Unincorporated Areas).
| Approximately 1,800 feet upstream of the confluence with Clark Creek | None | +567
Clark Creek Tributary 8 | At the confluence with Clark Creek | None | +543 | York County (Unincorporated Areas).
| Approximately 1,490 feet upstream of the confluence with Clark Creek | None | +569
Clinton Branch | Approximately 2,160 feet downstream of the confluence of Clinton Branch Tributary 1 | None | +513 | York County (Unincorporated Areas).
| Approximately 2,280 feet downstream of Mount Holly Road | None | +612
Clinton Branch Tributary 1 | At the confluence of Clinton Branch | None | +522 | York County (Unincorporated Areas).
| Approximately 3,230 feet upstream of the confluence with Clinton Branch | None | +548
Conrad Creek | Approximately 2,160 feet downstream of the confluence of Conrad Creek Tributary 1 | None | +551 | York County (Unincorporated Areas).
| Approximately 6,120 feet upstream of the confluence of Conrad Creek Tributary 5 | None | +638
Conrad Creek Tributary 1 | At the confluence with Conrad Creek | None | +554 | York County (Unincorporated Areas).
| Approximately 4,450 feet upstream of the confluence with Conrad Creek | None | +581
Conrad Creek Tributary 2 | At the confluence with Conrad Creek | None | +568 | York County (Unincorporated Areas).
| Approximately 1,540 feet upstream of Lowrys Road | None | +616
Conrad Creek Tributary 3 | At the confluence with Conrad Creek | None | +567 | York County (Unincorporated Areas).
| Approximately 4,470 feet upstream of the confluence with Conrad Creek | None | +601
Conrad Creek Tributary 4 | At the confluence with Conrad Creek | None | +583 | York County (Unincorporated Areas).
| Approximately 5,450 feet upstream of the confluence with Conrad Creek | None | +613
Conrad Creek Tributary 5 | At the confluence with Conrad Creek | None | +592 | York County (Unincorporated Areas).
| Approximately 6,190 feet upstream of the confluence with Conrad Creek | None | +640
Creekside Branch | At the confluence with Langham Branch | None | +588 | York County (Unincorporated Areas), City of York.
| Approximately 665 feet upstream of the confluence of Creekside Branch Tributary 1 | None | +649
Creekside Branch Tributary No. 1 | At the confluence with Creekside Branch | None | +647 | York County (Unincorporated Areas), City of York.
| Approximately 300 feet south of the intersection of Benfield Avenue and Lynwood Circle | None | +681
Creekside Branch Tributary No. 2 | At the confluence with Creekside Branch | None | +637 | York County (Unincorporated Areas).
| Approximately 3,810 feet upstream of the confluence of Creekside Branch Tributary 7 | None | +674
Creekside Branch Tributary No. 4 | At the confluence with Creekside Branch | None | +602 | York County (Unincorporated Areas).
| Approximately 2,905 feet upstream of the confluence of Creekside Branch Tributary 7 | None | +616
Creekside Branch Tributary No. 5 | At the confluence with Creekside Branch | None | +637 | York County (Unincorporated Areas), City of York.
| Approximately 1,290 feet upstream of the confluence of Creekside Branch | None | +640
Creekside Branch Tributary No. 6 | At the confluence with Creekside Branch | None | +639 | York County (Unincorporated Areas).
| Approximately 1.630 feet upstream of the confluence of Creekside Branch | None | +644
Creekside Branch Tributary No. 7 | At the confluence with Creekside Branch Tributary No. 2 | None | +637 | York County (Unincorporated Areas).
| Approximately 930 feet upstream of the confluence of Creekside Branch Tributary 2 | None | +638
Crowders Creek | At the confluence with Lake Wylie | None | +570 | York County (Unincorporated Areas).
| Approximately 2,800 feet upstream of confluence of Crowder Creek Tributary 1 | None | +618
Crowders Creek Tributary 1 | At the confluence with Crowders Creek | None | +615 | York County (Unincorporated Areas).
| Approximately 1,980 feet upstream of confluence with Crowder Creek | None | +622
Crowders Creek Tributary 2 | At the confluence with Crowders Creek | None | +575 | York County (Unincorporated Areas).
| Approximately 4,100 feet upstream of confluence with Crowder Creek | None | +597
Crowders Creek Tributary 3 | Approximately 6,810 feet downstream of Colonial Road | None | +641 | York County (Unincorporated Areas).
| Approximately 4,430 feet downstream of Colonial Road | None | +654
Diggers Branch | At the confluence with Clark Creek | None | +556 | York County (Unincorporated Areas).
| Approximately 2,260 feet upstream of Jenkins Road | None | +649
Dry Fork | At the confluence with Turkey Creek | None | +482 | York County (Unincorporated Areas).
| Approximately 150 feet downstream of Sharon Road | None | +521
Dry Fork Tributary 1 | At the confluence of Dry Fork | None | +488 | York County (Unincorporated Areas), Town of Fort Mill.
| Approximately 130 feet downstream of Sharon Road | None | +510
Dye Branch | At the confluence with Catawba River | None | +507 | York County (Unincorporated Areas).
| Approximately 1,425 feet downstream of Harris Road | None | +531
Ferry Branch | At the confluence with Catawba River | None | +475 | York County (Unincorporated Areas).
| Approximately 3,540 feet upstream of Ferry Branch Tributary 3 | None | +612
Ferry Branch Tributary 2 | At the confluence with Ferry Branch | None | +533 | York County (Unincorporated Areas).
| Approximately 1,450 feet downstream of Reservation Road | None | +555
Ferry Branch Tributary 3 | At the confluence with Ferry Branch | None | +568 | York County (Unincorporated Areas).
| Approximately 470 feet downstream of Cureton Ferry Road | None | +577
Fishing Creek | Approximately 2,470 feet downstream of the confluence of a unnamed tributary to Fishing Creek | None | +486 | York County (Unincorporated Areas), City of Rock Hill, City of York.
| Approximately 760 feet upstream of Lincoln Road | None | +656
Fishing Creek Tributary | At the confluence with Fishing Creek | None | +547 | York County (Unincorporated Areas).
| Approximately 2,925 feet upstream of Zinker Road | None | +605
Fishing Creek Tributary 1 | At the confluence with Fishing Creek | None | +642 | York County (Unincorporated Areas), City of York.
| At Lincoln Road | None | +710
Fishing Creek Tributary 1A | At the confluence with Fishing Creek Tributary 1 | None | +677 | City of York.
| At Ross Cannon Street | None | +704
Fishing Creek Tributary 1B | At the confluence with Fishing Creek Tributary 1 | None | +686 | City of York.
| At Hall Street | None | +705
Fishing Creek Tributary 2 | At the confluence with Fishing Creek | None | +595 | York County (Unincorporated Areas).
| Approximately 1,640 feet southeast of the intersection of Country Trail Road and Ernest Road | None | +636
Fishing Creek Tributary 3 | At the confluence with Fishing Creek | None | +643 | York County (Unincorporated Areas), City of York.
| Approximately 2,890 feet upstream of Alexander Love Hwy East | None | +693
Fishing Creek Tributary 4 | At the confluence with Fishing Creek | None | +532 | York County (Unincorporated Areas).
| Approximately 50 feet downstream of Oak Park Road | None | +546
Fishing Creek Tributary 5 | At the confluence with Fishing Creek | None | +540 | York County (Unincorporated Areas).
| Approximately 1,985 feet upstream of the confluence of Fishing Creek Tributary 7 | None | +598
Fishing Creek Tributary 6 | At the confluence with Fishing Creek Tributary 5 | None | +563 | York County (Unincorporated Areas).
| Approximately 490 feet downstream of Highwood Road | None | +604
Fishing Creek Tributary 7 | At the confluence with Fishing Creek Tributary 5 | None | +571 | York County (Unincorporated Areas).
| Approximately 1,255 feet upstream of the confluence with Fishing Creek Tributary 5 | None | +596
Fishing Creek Tributary 8 | At the confluence with Fishing Creek Tributary 6 | None | +580 | York County (Unincorporated Areas).
| Approximately 450 feet upstream of Highwood Road | None | +597
Fishing Creek Tributary 9 | At the confluence with Fishing Creek | None | +623 | York County (Unincorporated Areas).
| Approximately 790 feet upstream of Trotter Place | None | +660
Fishing Creek Tributary 10 | At the confluence with Fishing Creek | None | +614 | York County (Unincorporated Areas), City of York.
| Approximately 50 feet northeast of the end of Cricket Run | None | +631
Fishing Creek Tributary 11 | At the confluence with Fishing Creek | None | +554 | York County (Unincorporated Areas).
| Approximately 2,550 feet upstream of Turkey Farm Road | None | +580
Fishing Creek Tributary 12 | At the confluence with Fishing Creek | None | +565 | York County (Unincorporated Areas).
| Approximately 2,605 feet upstream of the confluence with Fishing Creek | None | +575
Fishing Creek Tributary 13 | At the confluence with Fishing Creek | None | +567 | York County (Unincorporated Areas).
| Approximately 2,780 feet upstream of the confluence with Fishing Creek | None | +584
Fishing Creek Tributary 14 | At the confluence with Fishing Creek | None | +569 | York County (Unincorporated Areas).
| Approximately 3,690 feet upstream of the confluence with Fishing Creek | None | +600
Fishing Creek Tributary 15 | At the confluence with Fishing Creek | None | +575 | York County (Unincorporated Areas).
| Approximately 1,650 feet upstream of the confluence with Fishing Creek | None | +594
Fishing Creek Tributary 16 | At the confluence with Fishing Creek Tributary 2 | None | +617 | York County (Unincorporated Areas).
| Approximately 3,150 feet upstream of the confluence with Fishing Creek Tributary 2 | None | +675
Gin Branch | At the confluence with Bullock Creek | None | +598 | York County (Unincorporated Areas).
| Approximately 70 feet downstream of Bush Road | None | +639
Grist Branch | At the confluence with Big Allison Creek | None | +610 | York County (Unincorporated Areas).
| Approximately 60 feet downstream of Wood Drive | None | +625
Guyon Moore Creek | At the confluence with Broad River | None | +446 | York County (Unincorporated Areas).
| Approximately 7,370 feet upstream of the confluence of Guyon Moore Creek | None | +597
Guyon Moore Creek Tributary 1 | At the confluence with Guyon Moore Creek | None | +538 | York County (Unincorporated Areas).
| Approximately 1,980 feet upstream of the confluence with Guyon Moore Creek | None | +558
Haggins Branch | At the confluence with Catawba River | None | +483 | York County (Unincorporated Areas).
| Approximately 394 feet upstream of Greenwood Road | None | +557
Hidden Creek | At the confluence with Catawba River | None | +511 | York County (Unincorporated Areas), City of Rock Hill.
| Just downstream of Riverview Road | None | +563
Jennings Branch | At the confluence with Clark Creek | None | +673 | York County (Unincorporated Areas), City of Rock Hill.
| Approximately 4,280 feet upstream of the confluence with Clark Creek | None | +683
Johnson Branch | At the confluence with Rock Branch | None | +608 | York County (Unincorporated Areas).
| Approximately 1,440 feet downstream of Lincoln Road | None | +626
Jones Branch | At the confluence with Dye Branch | None | +515 | York County (Unincorporated Areas).
| Approximately 280 feet downstream of Harris Road | None | +582
Kings Creek | At the confluence with Broad River | None | +493 | York County (Unincorporated Areas).
| Approximately 5,330 feet upstream of River Road | None | +515
Kirkpatrick Branch | At the confluence with Bullock Creek | None | +436 | York County (Unincorporated Areas).
| Approximately 1,600 feet downstream of Lockhart Road | None | +472
Lake Wylie |  | None | +570 | York County (Unincorporated Areas), City of Tega Cay.
Langham Branch | At the confluence with Fishing Creek | None | +573 | York County (Unincorporated Areas), City of York.
| Approximately 250 feet downstream of Liberty Street East | None | +668
Langham Branch Tributary 2 | At the confluence with Langham Branch | None | +587 | York County (Unincorporated Areas).
| Approximately 1,890 feet upstream of the confluence with Langham Branch | None | +598
Leroy Branch | At the confluence with Steele Creek | None | +526 | York County (Unincorporated Areas) Town of Fort Mill.
| Approximately 175 feet upstream of the confluence of Leroy Branch Tributary 1 | None | +562
Leroy Branch Tributary 1 | At the confluence with Leroy Branch | None | +561 | Town of Fort Mill.
| Approximately 1,000 feet upstream of the confluence with Leroy Branch | None | +574
Lindsey Creek | At the confluence with Wright Creek | None | +496 | York County (Unincorporated Areas).
| Approximately 610 feet upstream of Larchwood Road | None | +605
Lindsey Creek Tributary 1 | At the confluence with Lindsey Creek | None | +572 | York County (Unincorporated Areas).
| Approximately 990 feet downstream of Larchwood Road | None | +600
Little Allison Creek | At the confluence with Lake Wylie | None | +570 | York County (Unincorporated Areas).
| Approximately 1,990 feet downstream of Charlotte Hwy | None | +720
Little Allison Creek Tributary 1 | At the confluence of Little Allison Creek | None | +619 | York County (Unincorporated Areas).
| Approximately 840 feet upstream of Tirzah Road Extension | None | +652
Little Allison Creek Tributary 2 | At the confluence of Little Allison Creek | None | +602 | York County (Unincorporated Areas).
| Approximately 50 feet downstream of Harper Road | None | +621
Little Dutchman Tributary 1A | Just upstream of Ebingport Road | None | +572 | City of Rock Hill.
| Approximately 205 feet upstream of Roundtree Circle | None | +587
Little Turkey Creek | At the confluence with Turkey Creek | None | +420 | York County (Unincorporated Areas).
| Approximately 4,120 feet upstream of Garvin Road | None | +511
Little Turkey Creek Tributary 1 | At the confluence with Little Turkey Creek | None | +572 | York County (Unincorporated Areas).
| Approximately 2,790 feet upstream of the confluence with Little Turkey Creek | None | +600
Love Creek | At the confluence with South Fork Fishing Creek | None | +534 | York County (Unincorporated Areas), Town of McConnells.
| Approximately 1,690 feet upstream of McConnels Hwy | None | +617
Love Creek Tributary 1 | At the confluence with Love Creek | None | +561 | York County (Unincorporated Areas).
| Approximately 100 feet downstream of McConnells Hwy | None | +617
Loves Creek | At the confluence with Bullock Creek | None | +436 | York County (Unincorporated Areas), Town Hickory Grove.
| Just downstream of Smith Street | None | +620
Loves Creek Tributary 1 | At the confluence with Loves Creek | None | +510 | York County (Unincorporated Areas).
| Approximately 100 feet upstream of Howells Ferry Road | None | +552
Loves Creek Tributary 2 | At the confluence with Loves Creek | None | +493 | York County (Unincorporated Areas).
| Approximately 2,630 feet upstream of Howells Ferry Road | None | +516
Manchester Creek | Approximately 790 feet downstream of the confluence of Manchester creek Tributary 1 | *516 | +515 | York County (Unincorporated Areas), City of Rock Hill.
| Approximately 1,390 feet upstream of Mt. Gallant Road East | *549 | +549
Manchester Creek Tributary 1 | At the confluence with Manchester Creek | *517 | +518 | York County (Unincorporated Areas), City of Rock Hill.
| Approximately 2,110 feet upstream of David Lyle Boulevard | *532 | +531
Manchester Creek Tributary 1 | Approximately 1,855 feet upstream of Evelyn Street | *548 | +548 | York County (Unincorporated Areas), City of Rock Hill.
| Approximately 3,195 feet upstream of Evelyn Street | None | +561
Manchester Creek Tributary 2 | Approximately 2,260 feet upstream of Poe Street | None | +609 | York County (Unincorporated Areas), City of Rock Hill.
| Approximately 3,750 feet upstream of Poe Street | None | +628
Manchester Creek Tributary 3 | Approximately 250 feet downstream of Eastwood Drive | None | +604 | York County (Unincorporated Areas), City of Rock Hill.
| Approximately 50 feet downstream of Pearl Street | None | +609
McClures Branch | At the confluence with Little Turkey Creek | None | +455 | York County (Unincorporated Areas).
| Approximately 4,390 feet upstream of the confluence of McClures Branch Tributary 1 | None | +545
McClures Branch Tributary 1 | At the confluence of McClures Branch | None | +509 | York County (Unincorporated Areas).
| Approximately 2,560 feet upstream of the confluence of McClures Branch | None | +528
Mill Creek | At the confluence with Lake Wylie | None | +570 | York County (Unincorporated Areas).
| Approximately 410 feet upstream of Riddle Mill Road | None | +656
Mill Creek Tributary 1 | At the confluence with Mill Creek | None | +379 | York County (Unincorporated Areas).
| Approximately 1,360 feet downstream of Valley View Drive Road | None | +593
Mill Creek Tributary 2 | At the confluence with Mill Creek | None | +595 | York County (Unincorporated Areas).
| Approximately 410 feet northwest of the intersection of Shagbark Land and Pine Lake Road | None | +631
Mitchell Branch | At the confluence of Bullock Creek | None | +448 | York County (Unincorporated Areas).
| Approximately 6,370 feet upstream of Sherer Road | None | +587
Mooneys Hill Branch | At the confluence with Catawba River | None | +500 | York County (Unincorporated Areas), Town of Fort Mill.
| Approximately 1,045 feet downstream of Spratts Branch | None | +573 |
Mooneys Hill Branch Tributary 1 | At the confluence of Mooneys Hill Branch | None | +500 | York County (Unincorporated Areas).
| Approximately 2,875 feet upstream of the confluence with Mooneys Hill Branch | None | +537
Morris Branch | At the confluence with Big Allison Creek | None | +646 | York County (Unincorporated Areas).
| Approximately 3,810 feet upstream of Smith Road | None | +688
Mud Creek | At the confluence with Broad River | None | +448 | York County (Unincorporated Areas).
| Approximately 100 feet upstream of Martin Road | None | +526
Neelys Creek | Approximately 6,330 feet downstream of Pitts Road | None | +506 | York County (Unincorporated Areas).
| Approximately 180 feet upstream of Hovis Road | *None | +629
Palmer Branch | At the confluence with Rainey Branch | None | +406 | York County (Unincorporated Areas).
| Approximately 5,120 feet upstream of the confluence with Rainey Branch | None | +417
Plexico Branch | At the confluence with Bullock Creek | None | +444 | York County (Unincorporated Areas).
| Approximately 5,620 feet upstream of Hoodtown Road | None | +513
Rainey Branch | Approximately 2,200 feet downstream of the confluence of Palmer Branch | None | +392 | York County (Unincorporated Areas).
| Approximately 6,070 feet upstream of the confluence of Rainey Branch Tributary 1 | None | +485
Rainey Branch Tributary 1 | At the confluence with Rainey Branch | None | +420 | York County (Unincorporated Areas).
| Approximately 2,040 feet upstream of the confluence with Rainey Branch | None | +433
Rock Branch | At the confluence with Big Allison Creek | None | +596 | York County (Unincorporated Areas).
| Approximately 300 feet upstream of Lincoln Road | None | +635
Rocky Branch | At the confluence with Bullock Creek | None | +543 | York County (Unincorporated Areas).
| Approximately 5,030 feet upstream of Turner Road | None | +686
Rocky Branch Tributary 1 | At the confluence with Rocky Branch | None | +558 | York County (Unincorporated Areas).
| Approximately 3,530 feet upstream of the confluence with Rocky Branch | None | +601
Ross Branch | At the confluence with Turkey Creek | None | +542 | York County (Unincorporated Areas).
| Approximately 4,460 feet upstream of Longleaf Road | None | +636
Ross Branch Tributary | At the confluence with Ross Branch | None | +602 | York County (Unincorporated Areas).
| Approximately 8,030 feet upstream of the confluence with Ross Branch | None | +723
Ross Branch Tributary 1 | At the confluence with Ross Branch | None | +626 | York County (Unincorporated Areas).
| Approximately 3,660 feet upstream of the confluence with Ross Branch | None | +642
Ross Branch Tributary 3 | At the confluence with Ross Branch | None | +615 | York County (Unincorporated Areas).
| Approximately 2,180 feet upstream of Fleetwood Road | None | +703
Ross Branch Tributary 4 | At the confluence with Ross Branch | None | +606 | York County (Unincorporated Areas).
| Approximately 720 feet upstream of Sharon Road | None | +621
Rum Branch | Approximately 1,510 feet downstream of Antler Drive | None | +508 | York County (Unincorporated Areas).
| Approximately 200 feet downstream of Neelys Creek | None | +590
Rum Branch Tributary 1 | At the confluence with Rum Branch | None | +551 | York County (Unincorporated Areas).
| Approximately 1,050 feet southwest of the intersect of Brer Rabbit and Carrie Estates Drive | None | +597
Rum Branch Tributary 2 | At the confluence with Rum Branch Tributary 1 | None | +551 | York County (Unincorporated Areas).
| Approximately 1,790 feet upstream of the Railroad crossing | None | +589
Silver Creek | At the confluence with Buck Horn Creek | None | +508 | York County (Unincorporated Areas).
| Approximately 5,140 feet upstream of Sierra Road | None | +656
Six Mile Creek | At the confluence with Catawba River | None | +478 | York County (Unincorporated Areas).
| Approximately 1,350 feet downstream of George Dunn Road | None | +494
Six Mile Creek Tributary 2 | At the confluence of Six Mile Creek | None | +481 | York County (Unincorporated Areas).
| Approximately 2,460 feet upstream of the confluence with Six Mile Creek | None | +487
South Fork Crowder Creek | Approximately 3,360 feet downstream of Lloyd Wright Road | None | +665 | York County (Unincorporated Areas).
| Approximately 720 feet upstream of Battleground Road | None | +778 |
South Fork Crowder Creek Tributary I | At the confluence with South Fork Crowders Creek | None | +677 | York County (Unincorporated Areas).
| Approximately 2,030 feet upstream of the confluence with South Fork Crowders Creek | None | +706 |
South Fork Crowder Creek Tributary 2 | At the confluence with South Fork Crowders Creek | None | +688 | York County (Unincorporated Areas).
| Approximately 410 feet downstream of Whiteside Road | None | +708 |
South Fork Fishing Creek | Approximately 3,210 feet downstream of the confluence of South Fishing Creek Tributary 1 | None | +519 | York County (Unincorporated Areas).
| Approximately 1,080 feet upstream of Brattonville Road | None | +634 |
South Fork Fishing Creek Tributary 1 | At the confluence with South Fork Fishing Creek | None | +525 | York County (Unincorporated Areas).
| Approximately 4,350 feet upstream of Chappell Road East | None | +543 |
South Fork Fishing Creek Tributary 2 | At the confluence with South Fork Fishing Creek | None | +525 |
| Approximately 4,790 feet upstream of the confluence with South Fork Fishing Creek | None | +545 |
South Fork Fishing Creek Tributary 3 | At the confluence with South Fork Fishing Creek | None | +548 | York County (Unincorporated Areas).
| Approximately 2,380 feet upstream of the confluence with South Fork Road | None | +571 |
South Fork Fishing Creek Tributary 4 | At the confluence with South Fork Fishing Creek | None | +558 | York County (Unincorporated Areas).
| Approximately 2,450 feet upstream of the confluence with South Fork Fishing Creek | None | +583 |
South Fork Fishing Creek Tributary 5 | Approximately 3,570 feet downstream of Chappell Road East | None | +516 | York County (Unincorporated Areas).
| Approximately 2,230 feet downstream of Chappell Road East | None | +517 |
South Fork Fishing Creek Tributary 6 | Just upstream of Chappell Road East | None | +513 | York County (Unincorporated Areas).
| Approximately 2,800 feet downstream of Border Road West | None | +525
Stoney Fork | At the confluence of Fishing Creek | None | +495 | York County (Unincorporated Areas).
| Approximately 5,740 feet upstream of Moore Road | None | +656 |
Stoney Fork Tributary 1 | At the confluence of Stoney Fork | None | +501 | York County (Unincorporated Areas).
| Approximately 3,000 feet upstream of Williamson Road | None | +535
Stoney Fork Tributary 2 | At the confluence of Stoney Fork | None | +523 | York County (Unincorporated Areas).
| Approximately 2,200 feet upstream of Ogden Road | None | +634 |
Stoney Fork Tributary 3 | At the confluence of Stoney Fork | None | +551 | York County (Unincorporated Areas).
| Approximately 5,290 feet upstream of the confluence iwth Stoney Fork | None | +580 |
Stoney Fork Tributary 4 | At the confluence of Stoney Fork | None | +563 | York County (Unincorporated Areas).
| Approximately 2,370 feet upstream of Faires Road | None | +605 |
Sugar Creek Tributary 2 | At the confluence with Sugar Creek | None | +496 | York County (Unincorporated Areas).
| Approximately 770 feet southest of the intersection of Bobys Bridge Road and Whites Road | None | +627 |
Susybole Creek | Approximately 3,600 feet downstream of the confluence with Carter Branch | None | +455 | York County (Unincorporated Areas).
| Approximately 9,180 feet upstream of Buris Road South | None | +506 |
Taylors Creek | At the confluence with Fishing Creek | None | +502 | York County (Unincorporated Areas), City of Rock Hill.
| Approximately 335 feet downstream of Firetower Road | None | +569 |
Taylors Creek Tributary 1 | At the confluence with Taylors Creek | None | +521 | York County (Unincorporated Areas), City of Rock Hill.
| Approximately 210 feet downstream of Glendarden Avenue | None | +569 |
Taylors Creek Tributary 2 | At the confluence with Taylors Creek | None | +535 | York County (Unincorporated Areas), City of Rock Hill.
| Approximately 105 feet downstream of Albright Road | None | +549 |
Taylors Creek Tributary 3 | At the confluence with Taylors Creek | None | +548 | York County (Unincorporated Areas).
| Approximately 1,410 feet upstream of Taylors Creek Road | None | +586 |
Thompson Branch | At the confluence with Bullock Creek | None | +466 | York County (Unincorporated Areas).
| Approximately 2,190 feet upstream of Walnut Street Extension | None | +513 |
Thompson Branch Tributary 1 | At the confluence with Thompson Branch | None | +473 | York County (Unincorporated Areas).
| Approximately 1,130 feet downstream of Sawmill Road | None | +489 |
Tools Fork Creek | Approximately 750 feet upstream of York Hwy | None | +583 | York County (Unincorporated Areas).
| Approximately 1,950 feet upstream of Mt. Gallant Road West | None | +615 |
Tools Fork Creek Tributary | At the confluence with Tools Fork Creek | None | +581 | York County (Unincorporated Areas).
| Approximately 1,390 feet downstream of Old York Road | None | +636 |
Tools Fork Creek Tributary 2 | At the confluence with Tools Fork Creek | None | +597 | York County (Unincorporated Areas).
| Approximately 230 feet downstream of Tirzah Road | None | +608 |
Tools Fork Creek Tributary 3 | At the confluence with Tools Fork Creek Tributary 1 | None | +583 | York County (Unincorporated Areas).
| Approximately 155 feet downstream of Pine Grove Court | None | +599 |
Turkey Creek | Approximately 1,390 feet downstream of the confluence of Blue Branch | None | +397 | York County (Unincorporated Areas), City of York.
| Approximately 5,410 feet upstream of Springlake Road | None | +694 |
Turkey Creek Tributary 1 | At the confluence with Turkey Creek | None | +581 | York County (Unincorporated Areas).
| Approximately 1,075 feet upstream of the confluence with Turkey Creek | None | +636 |
Turkey Creek Tributary 2 | At the confluence with Turkey Creek | None | +668 | York County (Unincorporated Areas).
| Approximately 2,845 feet upstream of James Harvey Road | None | +707 |
Turkey Creek Tributary 3 | At the confluence with Turkey Creek | None | +661 | York County (Unincorporated Areas).
| Approximately 475 feet upstream of the confluence with Turkey Creek | None | +680 |
Turkey Creek Tributary 4 | At the confluence with Turkey Creek | None | +653 | York County (Unincorporated Areas).
| Approximately 105 feet upstream of Tanager Drive | None | +666 |
Turkey Creek Tributary 5 | At the confluence with Turkey Creek | None | +649 | York County (Unincorporated Areas).
| Approximately 1,005 feet upstream of the confluence with Turkey Creek | None | +671 |
Turkey Creek Tributary 6 | At the confluence with Turkey Creek | None | +617 | York County (Unincorporated Areas).
| Approximately 1,660 feet upstream of the confluence with Turkey Creek | None | +656 |
Turkey Creek Tributary 7 | At the confluence with Turkey Creek | None | +477 | York County (Unincorporated Areas).
| Approximately 5,130 feet upstream of the confluence with Turkey Creek | None | +572
Turkey Creek Tributary 8 | At the confluence with Turkey Creek | None | +437 | York County (Unincorporated Areas).
| Approximately 6,360 feet upstream of the confluence with Turkey Creek | None | +477
Turkey Creek Tributary 9 | At the confluence with Turkey Creek Tributary 8 | None | +436 | York County (Unincorporated Areas).
| Approximately 1,760 feet upstream of the confluence with Turkey Creek Tributary 8 | None | +452
Turkey Creek Tributary 10 | At the confluence with Turkey Creek | None | +427 | York County (Unincorporated Areas).
| Approximately 4,510 feet upstream of Feemster Road | None | +481
Turkey Creek Tributary 11 | At the confluence with Turkey Creek | None | +408 | York County (Unincorporated Areas).
| Approximately 9,360 feet upstream of the confluence with Turkey Creek | None | +447
Turkey Creek Tributary 12 | At the confluence with Turkey Creek | None | +407 | York County (Unincorporated Areas).
| Approximately 300 feet downstream of Burris Road North | None | +444
Turkey Creek Tributary 13 | At the confluence with Turkey Creek | None | +400 | York County (Unincorporated Areas).
| Approximately 6,690 feet upstream of the confluence with Turkey Creek | None | +443
Turkey Creek Tributary 14 | At the confluence with Turkey Creek | None | +399 | York County (Unincorporated Areas).
| Approximately 6,450 feet upstream of the confluence with Turkey Creek | None | +426
Walker Branch | At the confluence with Calabash Branch | None | +637 | York County (Unincorporated Areas), Town of Clover.
| Approximately 3,530 feet upstream of St. Paul Church Road | None | +727
Wildcat Creek | At the confluence with Fishing Creek | None | +520 | York County (Unincorporated Areas), City of Rock Hill.
| Approximately 675 downstream of Odgen Road | None | +532
Wildcat Creek | At McConnells Hwy | None | +558 | York County (Unincorporated Areas), City of Rock Hill.
| Approximately 890 feet upstream of Heckle Boulevard | None | +680
Wildcat Creek Tributary 1 | At the confluence with Wildcat Creek | None | +544 | York County (Unincorporated Areas), City of Rock Hill.
| Approximately 330 feet downstream of the confluence with Wildcat Creek Tributary 1-A | None | +574
Wildcat Creek Tributary 1-A | At the confluence with Wildcat Creek Tributary 1 | None | +575 | York County (Unincorporated Areas), City of Rock Hill.
| Approximately 75 feet downstream of Finley Road | None | +590
Wildcat Creek Tributary 2 | At the confluence with Wildcat Creek | None | +549 | York County (Unincorporated Areas), City of Rock Hill.
| Approximately 1,495 feet downstream of McConnells Hwy | None | +556
Wildcat Creek Tributary 3 | At the confluence with Wildcat Creek | None | +547 | York County (Unincorporated Areas).
| Approximately 355 feet upstream of Reese Roach Road | None | +593
Wildcat Creek Tributary 4 | At the confluence with Wildcat Creek | None | +558 | York County (Unincorporated Areas), City of Rock Hill.
| Approximately 560 feet downstream of Herlong Avenue South | None | +606
Wildcat Creek Tributary 5 | At the confluence with Wildcat Creek | None | +577 | York County (Unincorporated Areas).
| Approximately 510 feet upstream of Hollis Lakes Road | None | +632
Wolf Creek | At the confluence with Kings Creek | None | +456 | City of Rock Hill.
| At the Cherokee/York County Boundary | None | +640
Wright Creek | At the confluence with Little Turkey Creek | None | +496 | York County (Unincorporated Areas).
| Approximately 680 feet upstream of the confluence with Lindsay Creek | None | +558
# Depth in feet above ground.
* National Geodetic Vertical Datum.
+ National American Vertical Datum.
ADDRESSES
Unincorporated Areas of York County
Maps are available for inspection at 6 South Congress Street, York, SC 29745.
Send comments to Alfred W. Greene, County Manager, York County, P.O. Box 66, York, SC 29745-0066.
Catawba Indian Nation
Maps are available for inspection at 996 Avenue of the Nation, Rock Hill, SC 29730.
Send comments to Chief Gilbert Blue, Catawba Indian Nation, 996 Avenue of the Nation, Rock Hill, SC 29730.
Town of Clover
Maps are available for inspection at 114 Bethel Street, Clover, SC 29710-0181.
Send comments to the Honorable Donnie D. Grice, Mayor, Town of Clover, P.O. Box 181, Clover, SC 29710-0181.
Town of Fort Mill
Maps are available for inspection at 112 Confederate Street, Fort Mill, SC 29715-0159.
Send comments to the Honorable Charles E. Powers, Mayor, Town of Fort Mill, P.O. Box 159, Fort Mill, SC 29715-0159.
Town of Hickory Grove
Maps are available for inspection at 6001 Wylie Avenue, Hickory Grove, SC 29717-0126.
Send comments to the Honorable Larry A. Earl, Mayor, Town of Hickory Grove, P.O. Box 126, Hickory Grove, SC 29717-0126.
Town of McConnells
Maps are available for inspection at 4178 Chester Highway, McConnells, SC 29726-0115.
Send comments to the Honorable H. John Harshaw, Jr., Mayor, Town of McConnells, P.O. Box 115, McConnells, SC 29726-0115.
City of Rock Hill
Maps are available for inspection at 155 Johnson Street, Rock Hill, SC 29731-1706.
Send comments to the Honorable Douglas Echols, Mayor, City of Rock Hill, P.O. Box 11706, Rock Hill, SC 29731-1706.
City of Tega Cay
Maps are available for inspection at 7000 Tega Cay Drive, Tega Cay, SC 29708-3399.
Send comments to the Honorable Robert C. Runde, Mayor, City of Tega Cay, P.O. Box 3399, Tega Cay, SC 29708-3399.
City of York
Maps are available for inspection at 10 North Roosevelt Street, York, SC 29745-0500.
Send comments to the Honorable J. Edward Lee, Mayor, City of York, P.O. Box 500, York, SC 29745-0500.

(Catalog of Federal Domestic Assistance No. 83.100, “Flood Insurance.”)

Dated: July 6, 2006.
David I. Maurstad,
Director, Mitigation Division, Federal Emergency Management Agency, Department of Homeland Security.

[FR Doc. E6-11394 Filed 7-18-06; 8:45 am]

BILLING CODE 9110-12-P